NATIONAL TRANSPORTATION SAFETY BOARD

Sunshine Act Meeting; Agenda

TIME AND DATE: 9:30 a.m., Tuesday, March 14, 2017.

PLACE: NTSB Conference Center, 429 L'Enfant Plaza SW., Washington, DC 20594.

STATUS: The one item is open to the public.

MATTERS TO BE CONSIDERED:

56342 Highway Accident Report—Motorcoach Collision With Crash Attenuator in Gore Area, US Highway 101, San Jose, California, January 19, 2016.

NEWS MEDIA CONTACT: Telephone: (202) 314-6100.

The press and public may enter the NTSB Conference Center one hour prior to the meeting for set up and seating.

Individuals requesting specific accommodations should contact Rochelle Hall at (202) 314-6305 or by email at Rochelle.McCallister@ntsb.gov by Wednesday, March 8, 2017.

The public may view the meeting via a live or archived webcast by accessing a link under “News & Events” on the NTSB home page at www.ntsb.gov.

Schedule updates, including weather-related cancellations, are also available at www.ntsb.gov.

FOR FURTHER INFORMATION CONTACT: Candi Bing at (202) 314-6403 or by email at bingc@ntsb.gov.

FOR MEDIA INFORMATION CONTACT: Eric Weiss at (202) 314-6100 or by email at eric.weiss@ntsb.gov.

Dated: Friday, February 24, 2017.
Candi R. Bing,
Federal Register Liaison Officer.

[FR Doc. 2017-04029 Filed 2-27-17; 11:15 am]

BILLING CODE 7533-01-P